Proclamation 10823 of September 30, 2024

National Clean Energy Action Month, 2024

By the President of the United States of America

A Proclamation

When I think of clean energy, I think of good-paying jobs for American workers. Our Nation is leading the fight against the existential threat of climate change all while growing our economy and transitioning this country to a clean, reliable, and affordable energy future. During National Clean Energy Action Month, we recommit to investing in America and American workers as we build a cleaner, more energy secure future.

Since day one of my Administration, in partnership with Vice President Harris, I have been committed to building a clean energy economy that creates good-paying and union jobs for American workers. That is why my Investing in America agenda is making the most significant investment in climate and clean energy in history. That investment has helped America unleash a clean energy manufacturing and deployment boom—attracting more than $426 billion in private sector investment commitments. It has also created more than 330,000 new jobs according to independent estimates. These investments are disproportionately going to places that have been left behind—including historic energy communities that have powered this Nation for generations and to workers who do not have a 4-year college degree.

We are also making investments that help ensure our clean energy future will be built here in America—by American workers. My Inflation Reduction Act is delivering on my commitment to be the most pro-worker, pro-union President in history. For the first time ever, we are attaching strong labor protections and incentives to climate and clean energy tax credits. My Administration finalized a rule through the Inflation Reduction Act incentivizing companies to pay clean energy workers a prevailing wage and employ registered apprentices. These provisions help ensure jobs building wind farms, installing solar panels, and constructing hydrogen and carbon capture facilities will be good-paying and support proven pathways into the clean energy industry that allow workers to earn while they learn. Outside estimates suggest the Inflation Reduction Act could help create as many as 1.5 million jobs over the next decade. And I launched the American Climate Corps to train this next generation of clean energy, conservation, and resilience workers.

My Administration is making significant progress toward our ambitious goals of securing 100 percent clean electricity by 2035 and achieving net-zero emissions by 2050. That is in no small part due to our Inflation Reduction Act's tax credits and rebates, which families can use to install solar panels, buy energy-saving appliances, get heat pumps, and purchase American-made electric cars. Not only will this law help triple wind power generation and increase solar production eight-fold by 2030—tens of billions of dollars will go to the pockets of American families. And through Federal programs like the Low-Income Home Energy Assistance Program, we are lowering Americans' energy bills and making millions of homes safer and more energy efficient.

But there is still so much more to do to ensure that we are leading American industries into the 21st century and tackling climate change. That is why my Administration made the largest investment in America's power grid ever—making it more resilient to severe weather, laying new transmission lines, and upgrading existing infrastructure so clean and affordable energy can reach every corner of the country. At the same time, we are speeding up permitting for clean energy and transmission projects while implementing new emissions standards to reduce pollution from oil and gas producers, power plants, and vehicles—which will save American lives, improve the well-being of our people, and save tens of billions of dollars in healthcare costs.

Across the country, Americans are writing the next chapter in our Nation's clean energy future—they are getting shovels in the ground and working hard in good-paying jobs all while supporting their families and restoring pride to their communities. During National Clean Energy Action Month, we celebrate all the progress in clean energy, and we recommit to coming together to secure the future of clean energy here at home.

NOW, THEREFORE, I, JOSEPH R. BIDEN JR., President of the United States of America, by virtue of the authority vested in me by the Constitution and the laws of the United States, do hereby proclaim October 2024 as National Clean Energy Action Month. I call upon all Americans to explore whether new tax credits and rebates can help them lower emissions and save money on energy bills, cars, and home upgrades, and to recognize this month by talking to neighbors, friends, and coworkers about opportunities to address the climate crisis, and working together to mitigate climate change and achieve a healthier environment for all.

IN WITNESS WHEREOF, I have hereunto set my hand this thirtieth day of September, in the year of our Lord two thousand twenty-four, and of the Independence of the United States of America the two hundred and forty-ninth.

[FR Doc. 2024-22990

Filed 10-2-24; 8:45 am]

Billing code 3395-F4-P